MERIT SYSTEMS PROTECTION BOARD

5 CFR Part 1201

Practices and Procedures

AGENCY: Merit Systems Protection Board.

ACTION: Final rule.

SUMMARY: The Merit Systems Protection Board (MSPB or the Board) is adopting as final an interim rule that amended the requirement that agencies provide a copy of the MSPB appeal form when the agency issues a decision notice to an employee on a matter that is appealable to MSPB.

DATES: Effective July 22, 2013.

FOR FURTHER INFORMATION CONTACT: William D. Spencer, Clerk of the Board, Merit Systems Protection Board, 1615 M Street NW., Washington, DC 20419; phone: (202) 653-7200; fax: (202) 653-7130; or email: mspb@mspb.gov.

SUPPLEMENTARY INFORMATION: On April 11, 2013, the Board published an interim final rule amending 5 CFR 1201.21(c). 78 FR 21517. Prior to publication of this interim rule, this regulation required that, when a federal agency issues a decision notice to an employee on a matter that is appealable to MSPB, the federal agency must provide the employee with “[a] copy of the MSPB appeal form . . . .” The interim rule amended this regulation to allow federal agencies to provide employees “[a] copy, or access to a copy, of the MSPB appeal form . . . .”

The Board received no comments in response to the interim rule. Therefore, the Board has determined to adopt the interim rule as final without change.

List of Subjects in 5 CFR Part 1201

Administrative practice and procedure.

William D. Spencer,
Clerk of the Board.

Interim Rule Adopted as Final Without Change

Accordingly, the interim rule amending 5 CFR 1201.21(c), which was published at 78 FR 21517, on April 11, 2013, is adopted as a final rule without change.

[FR Doc. 2013-17508 Filed 7-19-13; 8:45 am]

BILLING CODE 7400-01-P